DEPARTMENT OF TRANSPORTATION

Federal Railroad Administration

Notice of Availability of a Final Environmental Impact Report/Environmental Impact Statement, a Final Section 4(f) Evaluation, and a Draft General Conformity Determination for the California High-Speed Train System Merced to Fresno Section

AGENCY: Federal Railroad Administration (FRA), United States Department of Transportation (DOT).

ACTION: Notice.

SUMMARY: FRA is issuing this notice to advise the public that FRA is issuing a Final Environmental Impact Statement (EIS) and Final 4(f) Evaluation for the California High-Speed Train (HST) System Merced to Fresno Section (Project). FRA is also making a Draft General Conformity Determination for the Project available for public review and comment. FRA is the lead Federal agency and the California High-Speed Rail Authority (Authority) is the lead state agency for the environmental review process. The agencies have prepared the Final EIS consistent with federal law and also to serve as an Environmental Impact Report (EIR) in compliance with the California Environmental Quality Act (CEQA) and CEQA Guidelines. The U.S. Army Corps of Engineers (USACE) and the Bureau of Reclamation (BOR) served as Cooperating Agencies for the preparation of the EIS.

DATES: The Final EIS and Final Section 4(f) Evaluation are being made available to the public for a 30-day waiting period according to 40 CFR 1506.10 prior to final FRA action. The waiting period commences on the date the U.S. Environmental Protection Agency's notice of availability is published in the Federal Register. Written comments on the Draft Conformity Determination for the California HST Project Merced to Fresno Section may be sent by May 29, 2012, to Mr. David Valenstein at the contact address below.

ADDRESSES: Copies of the Final EIS, Final Section 4(f) Evaluation, and Draft General Conformity Determination are available online at the FRA's Web site: http://www.fra.dot.gov and the Authority's Web site: http://www.cahighspeedrail.ca.gov and the Authority's offices at 770 L Street, Suite 800, Sacramento, CA; they are also available for viewing at the following locations in or near the Project area:

• Fresno County Public Library, Central Branch, 2420 Mariposa Street, Fresno, CA 93721

• Madera County Library, 121 North G Street, Madera, CA 93637

• Chowchilla Branch Library (Merced County Library), 300 Kings Avenue, Chowchilla, CA 93610

• Merced Community Senior Center, 755 West 15th Street, Merced, CA 95340

• Merced County Library, 2100 O Street, Merced, CA 95340

• Galilee Missionary Baptist Church, 22941 Fairmead Boulevard, Chowchilla, CA 93610

• Le Grand Branch Library, 12949 Le Grand Road, Le Grand, CA 95333

• Lao Family Community (Executive Summary in Hmong), 855 W 15th Street, Merced, CA 95340-5801

• Madera Ranchos Branch Library, 37167 Avenue 12, Suite 4C, Madera, CA 95636

• Merced County Los Manos Branch Library, 1312 South Seventh Street, Los Banos, CA 93635

• Atwater Branch Library, 1600 Third Street, Atwater, CA 95301-3607

FOR FURTHER INFORMATION CONTACT: Mr. David Valenstein, Chief, Environment and Systems Planning Division, Office of Railroad Policy and Development, Federal Railroad Administration, U.S., Department of Transportation, 1200 New Jersey Avenue SE., MS-20, Washington, DC 20590 (telephone: 202-493-6368).

SUPPLEMENTARY INFORMATION: Once completed, the California HST system will provide intercity, high-speed passenger rail service on more than 800 miles of tracks throughout California, connecting the major population centers of Sacramento, the San Francisco Bay Area, the Central Valley, Los Angeles, the Inland Empire, Orange County, and San Diego. It will use state-of-the-art, electrically powered, high-speed, steel-wheel-on-steel-rail technology, including contemporary safety, signaling, and automated train-control systems, with trains capable of operating up to 220 miles per hour (mph) over a fully graded-separated, dedicated double track alignment. The HST System is comprised of multiple sections, one of which is the Merced to Fresno section analyzed in the Final EIS.

The Final EIS describes the potential environmental impacts, both adverse and beneficial, of the Project, identifies appropriate measures to mitigate adverse impacts, and identifies the agencies' preferred alternative. The approximately 65-mile-long Merced to Fresno Section is an essential part of the statewide HST System. The Merced to Fresno Section is the location of the connection between the Bay Area and Sacramento branches of the HST System; it will provide Merced and Fresno access to a new transportation mode and will contribute to increased mobility throughout California. This project-level EIS tiers off of the Statewide Program EIS published in 2005 and the Bay area to Central Valley Program EIS published in 2008 and builds on the earlier decisions and Program EISs.

In August 2011, FRA issued a Draft EIS and circulated the document for a 60-day public and agency review and comment period. The Draft EIS analyzed a No Action Alternative and various Action Alternatives for the construction and operation of the California HST Project Merced to Fresno Section including alignment alternatives and station locations. FRA and the Authority convened three public hearings on the Draft EIS, held in Merced, Madera, and Fresno on September 14, September 15, and September 20, 2011, respectively.

Consistent with the provisions of Section 102(2)(c) of the National Environmental Policy Act (NEPA) of 1969 (42 U.S.C. 4321 et seq.), the Council on Environmental Quality (CEQ) regulations implementing NEPA (40 CFR parts 1500 et seq.), FRA's Procedures for Considering Environmental Impacts (Environmental Procedures) (64 FR 28545, May 26, 1999), the Final EIS evaluates the potential environmental effects associated with Action Alternatives and the No Action Alternative, identifies appropriate mitigation measures to minimize the potential environmental impacts, and identifies a preferred alternative. The FRA, the Authority, and Cooperating Agencies considered the entire record and the potential for environmental impact in selecting the Preferred Alternative. Additionally, the Final EIS includes FRA's Final Section 4(f) Evaluation which provides the supporting analysis to comply with 49 U.S.C. 303 and FRA's Environmental Procedures.

FRA is also issuing a Draft General Conformity Determination for public and agency comment. The Draft General Conformity Determination has been prepared pursuant to 40 CFR part 93, subpart B, which establishes the process for complying with the general conformity requirements of the Clean Air Act. Consistent with those regulations, FRA is making the Draft Conformity Determination available for public review and comment. Analysis of the Project's potential emissions found that construction period emissions would exceed the General Conformity de minimis threshold for Nitrogen Dioxide (NOx) and volatile organic compounds (VOC), a precursor for ozone. However, operation of the Project would result in an overall reduction of regional emissions of all applicable air pollutants and would not cause a localized exceedance of an air quality standard. Conformance of the Project will be accomplished through a Voluntary Emissions Reduction Agreement which will offset the NOx and VOC emissions consistent with applicable regulatory requirements.

Issued in Washington, DC, on April 12, 2012.
Joseph C. Szabo,
Administrator.

[FR Doc. 2012-9491 Filed 4-19-12; 8:45 am]

BILLING CODE 4910-06-P